DEPARTMENT OF LABOR

Employment and Training Administrative

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purposes of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 28, 2001.

Interested persons are invited to submit written comments regarding the subject matter of the investigations to the Director, Division of Trade Adjustment Assistance, at the address shown below, not later than December 28, 2001.

The petitions filed in this case are available for inspection at the Office of the Director, Division of Trade Adjustment Assistance, Employment and Training Administration, U.S. Department of Labor, Room C-5311, 200 Constitution Avenue, NW, Washington, DC 20210.

Signed at Washington, DC this 26th day of November, 2001.
Edward A. Tomchick,
Director, Division of Trade Adjustment Assistance.

APPENDIX
[Petitions Instituted On 11/26/2001]
TA-W | Subject firm (petitioners) | Location | Date of petition | Product(s)
40,366 | Mike Dent Enterprises (Co.) | Burns, OR | 10/31/2001 | Harvested Lumber.
40,367 | B/E Aerospace, SPG (Co.) | Litchfield, CT | 11/05/2001 | Airline Seats.
40,368 | SEH—America (Wkrs) | Vancouver, WA | 11/07/2001 | Silicon Wafers.
40,369 | PSW Industries (Co.) | Michigan City, IN | 11/09/2001 | Metal Stamping, Tool and Die Making.
40,370 | Valley Precision Tool (Co.) | Tower City, PA | 11/13/2001 | Electronic Connector Assemblies.
40,371 | Regal Rugs, Inc. (Co.) | North Vernon, IN | 11/01/2001 | Bath and Accent Rugs.
40,372 | Square D Co. (IBEW) | Middletown, OH | 11/15/2001 | Switchgear Boxes.
40,373 | Siemens Energy and Auto. (Co.) | Osceoloa, IA | 11/09/2001 | Electrical, Motor Controls and Parts.
40,374 | OSAN Manufacturing (UNITE) | Boyertown, PA | 11/16/2001 | Men's Pants.
40,375 | EGS Electrical (Co.) | Lake Geneva, WI | 08/30/2001 | Industrial Transformers.

[FR Doc. 01-31136 Filed 12-17-01; 8:45 am]

BILLING CODE 4510-30-M